DEPARTMENT OF TRANSPORTATION

Federal Aviation Administration

Notice of Intent To Request Renewal From the Office of Management and Budget (OMB) of Ten Current Public Collections of Information.

AGENCY: Federal Aviation Administration (FAA), DOT.

ACTION: Notice.

SUMMARY: In compliance with the Paperwork Reduction Act (44 U.S.C. 3501 et seq.), the FAA invites public comment on ten currently approved public information collections which will be submitted to OMB for renewal.

DATES: Comments must be received on or before May 28, 2002.

ADDRESSES: Comments may be mailed or delivered to the FAA at the following address: Ms. Judy Street, Room 613, Federal Aviation Administration, Standards and Information Division, APF-100, 800 Independence Ave., SW., Washington, DC 20591.

FOR FURTHER INFORMATION CONTACT: Ms. Judy Street at the above address or on (202) 267-9895.

SUPPLEMENTARY INFORMATION: In accordance with the Paperwork Reduction Act of 1995, an agency may not conduct or sponsor, and a person is not required to respond to a collection of information unless it displays a currently valid OMB control number. Therefore, the FAA solicits comments on the following current collections of information in order to evaluate the necessity of the collection, the accuracy of the agency's estimate of the burden, the quality, utility, and clarity of the information to be collected, and possible ways to minimize the burden of the collection in preparation for submission to renew their clearances.

1. 2120-0009, Pilot Schools—FAR 141. The information collected is used to determine compliance with 14 CFR part 141 of civilian schools giving instruction in flying. These schools may receive certification if the minimal acceptable training standards prescribed by this regulation are met. The current estimated annual reporting burden is 28,878 hours.

2. 2120-0044, Rotocraft External-Load Certificate Application. The information collected is required by 14 CFR part 133 and used by the FAA to process the operating certificate for non passenger-carrying rotorcraft external-load operations conducted for compensation or hire. The FAA requires information reporting by affected rotorcraft external-load operators in order to maintain its regulatory responsibilities. The current estimated annual reporting burden is 3,268 hours.

3. 2120-0060, General Aviation/Air Taxi Activity and Avionics Survey. Respondents to this survey are owners of general aviation aircraft and the collected information covers civil aeronautics, the development of air commerce and aeronautical industries, the development and use of navigable airspace, and aids for air navigation. The information collected is used by the FAA, NTSB, other government agencies, the aviation industry, and others for safety assessment, planning forecasting, cost/benefit analysis, and to target areas for research. The current estimated annual reporting burden is 4,875 hours.

4. 2120-0505, Indirect Air Carrier Security, 14 CFR part 109. Security programs required by 14 CFR part 109 set forth procedures to be used by indirect air carriers in carrying out their responsibilities involving the protection of persons and property against acts of criminal violence, aircraft piracy, and terrorist activities in the forwarding of package cargo by passenger aircraft. The information collection burden is a recordkeeping burden that requires each affected air carrier to keep at least one copy of its security program at its principle business office and a complete copy of the pertinent portions of its security program where package cargo is accepted. The current estimated annual reporting burden is 664 hours.

5. 2120-0577, Explosives Detection System Certification Training. The FAA has prepared a management plan that outlines the framework for explosive detection systems (EDS) certification testing. This plan is based on the general testing protocols developed independently by the National Academy of Sciences. Private manufacturers seeking FAA certification for their candidate EDS must submit complete descriptive data and their test results (vendor qualification data package) to the FAA prior to receiving permission to ship their equipment to the FAA Technical Center for certification testing. The current estimated annual reporting burden is 775 hours.

6. 2120-0587, Aviator Safety Studies. In order to develop effective intervention programs to improve aviation safety, data are required on the type and range of various pilot attributes related to their skill in making safety-related aeronautical decisions. The information collected will be used to develop new training methods particularly suited to general aviation pilots. The current estimated annual reporting burden is 13,333 hours.

7. 2120-0601, Financial Responsibility for Licensed Launch Activities. The information collected is used to determine if licensees have complied with federal responsibility requirements (including maximum probable loss determination) as set forth in regulations and in license orders issued by the Office of the Associate Administrator for Commercial Space Transportation. Respondents are all licensees authorized to conduct licensed launch activities. The current estimated annual reporting burden is 1,827 hours.

8. 2120-0633, Exemptions for Air Taxi and Commuter Air Carrier Operations. This collection is used to (1) expedite the FAA's issuance of operating authority for small charter air carriers, and (2) protect the competitive interests of these carriers, and (3) relieve the safety concerns of the traveling public with regard to the operations of the carriers. The current estimated annual reporting burden on the air taxi and commuter air carrier operators is 793 hours.

9. 2120-0646, Protection of Voluntarily Submitted Information. This collection is intended to encourage the aviation community to voluntarily share information with the FAA so that the agency may work cooperatively with industry to identify modifications to rules, policies, and procedures needed to improve safety, security, and efficiency of the National Airspace System. The current estimated annual reporting burden is 5 hours.

10. 2120-0677, Enhanced Security Procedures at Certain Airports, Washington DC Area. This SFAR has put into place security measures and air traffic control procedures that allow three Maryland airports (Potomac, Hyde, and College Park) to resume normal flight operations, small business operations and private pilot operations at each of these locations after the massive closure of airspace following September 11, 2001. Respondents include airport security personnel, clerical support personnel, and pilots. The current estimated annual reporting burden is 8,299 hours.

Issued in Washington, DC, on March 20, 2002.
Steve Hopkins,
Manager, Standards and Information Division, APF-100.

[FR Doc. 02-7504 Filed 3-27-02; 8:45 am]

BILLING CODE 4910-13-M